DEPARTMENT OF THE INTERIOR

National Park Service

[NPS-NER-SARA-11235; 4901-726]

Minor Boundary Revision of Saratoga National Historical Park

AGENCY: National Park Service, Interior.

ACTION: Notification of boundary revision.

SUMMARY: Notice is hereby given that, pursuant to 16 U.S.C. 460l-9(c)(1)(ii), the boundary of Saratoga National Historical Park is modified to include approximately 21.06 acres of adjacent unimproved land identified as Tract 01-157 (18.89 acres) and Tract 01-158 (2.17 acres). The tracts, owned respectively by Open Space Conservancy, Inc., and the State of New York, will be donated to the United States. The boundary revision is depicted on Map No. 374/112,692 and dated February 2012. The map is available for inspection at the following locations: National Park Service, Northeast Land Resources Program Center, New England Office, 115 John Street, Fifth Floor, Lowell, Massachusetts 01852, and National Park Service, Department of the Interior, Washington, DC 20240.

FOR FURTHER INFORMATION CONTACT: Superintendent, Saratoga National Historical Park, 648 Route 32, Stillwater, New York 12170, telephone (518) 664-9821.

DATES: The effective date of this boundary revision is December 3, 2012.

SUPPLEMENTARY INFORMATION: 16 U.S.C. 460l-9(c)(1)(ii) provides that, after notifying the House Committee on Natural Resources and the Senate Committee on Energy and Resources, the Secretary of the Interior is authorized to make minor boundary revisions to areas of the National Park System. The Committees have been so notified. This boundary revision will contribute to, and is necessary for, the proper preservation, protection and interpretation of Saratoga National Historical Park.

Dated: September 14, 2012.
Dennis R. Reidenbach,
Regional Director, Northeast Region.

[FR Doc. 2012-29099 Filed 11-30-12; 8:45 am]

BILLING CODE 4310-WV-P